COMMISSION ON CIVIL RIGHTS

Notice of Public Meeting of the Mississippi Advisory Committee To Discuss Agenda for the Public Meeting on Childcare Subsidy Policies in Mississippi

AGENCY: U.S. Commission on Civil Rights.

ACTION: Notice of meeting.

SUMMARY: Notice is hereby given, pursuant to the provisions of the rules and regulations of the U.S. Commission on Civil Rights (Commission) and the Federal Advisory Committee Act that the Mississippi Advisory Committee (Committee) will hold a meeting on Tuesday, April 14, 2015, at 3:00 p.m. CST for the purpose of discussing the agenda for the public meeting on childcare subsidy policies in Mississippi. The committee previously approved a project proposal on the topic in February and plan to hold the public meeting and gather testimony on the topic later this spring.

Members of the public can listen to the discussion. This meeting is available to the public through the following toll-free call-in number: 888-438-5453, conference ID: 3072616. Any interested member of the public may call this number and listen to the meeting. The conference call operator will ask callers to identify themselves, the organization they are affiliated with (if any), and an email address prior to placing callers into the conference room. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Member of the public are also entitled to submit written comments; the comments must be received in the regional office by May 14, 2015. Written comments may be mailed to the Midwestern Regional Office, U.S. Commission on Civil Rights, 55 W. Monroe St., Suite 410, Chicago, IL 60615. They may also be faxed to the Commission at (312) 353-8324, or emailed to Administrative Assistant, Carolyn Allen at callen@usccr.gov. Persons who desire additional information may contact the Midwestern Regional Office at (312) 353-8311.

Records generated from this meeting may be inspected and reproduced at the Midwestern Regional Office, as they become available, both before and after the meeting. Records of the meeting will be available via www.facadatabase.gov under the Commission on Civil Rights, Mississippi Advisory Committee link. Persons interested in the work of this Committee are directed to the Commission's Web site, http://www.usccr.gov, or may contact the Midwestern Regional Office at the above email or street address.

Agenda

Welcome and Introductions

3:00 p.m. to 3:10 p.m.

Susan Glisson, Chair

Discuss and approve agenda for May 13 hearing on childcare subsidies in MS.

3:10 p.m. to 3:40 p.m.

Discuss and approve venue location and other logistics for event.

3:40 p.m. to 3:55 p.m.

Open Comment

3:55 p.m. to 4:00 p.m.

Adjournment

4:00 p.m.

DATES: The meeting will be held on Tuesday, April 14, 2015, at 3:00 p.m. CST.

Public Call Information

Dial: 888-438-5453

Conference ID: 3072616

Exceptional Circumstance: Pursuant to 41 CFR 102-3.150, the notice for this meeting is given less than 15 calendar days prior to the meeting because of the exceptional circumstances of technical difficulties occurring in the process of having the meeting notice signed and sent to the Federal Register.

Dated: March 30, 2015.
David Mussatt,
Chief, Regional Programs Unit.

[FR Doc. 2015-07651 Filed 4-2-15; 8:45 am]

BILLING CODE 6335-01-P